DEPARTMENT OF ENERGY

National Energy Technology Laboratory; Notice of Availability of a Financial Assistance Solicitation

AGENCY: National Energy Technology Laboratory (NETL), Department of Energy (DOE).

ACTION: Notice of Availability of a Financial Assistance Solicitation.

SUMMARY: Notice is hereby given of the intent to issue Financial Assistance Solicitation No. DE-PS26-00NT40854, entitled “Solid State Energy Conversion Alliance (SECA).” The purpose of the SECA solicitation is to seek Industrial Development Teams to develop a 3 kilawatt (kW)-10kW solid-oxide fuel cell system including stack and balance of plant that has a Factory Cost of $400/kW by 2010. The goal is to develop solid-oxide fuel cell systems that have broad applicability via use of mass customization techniques. Development of solid-oxide fuel cell systems that are applicable to stationary, mobile, and military applications with minimal differences in core module components is also desired.

DATES: A draft solicitation will be available on or about September 15, 2000. Comments and/or questions concerning the draft solicitation shall be submitted to the DOE Contract Specialist no later than 25 days after publication of the solicitation; the mailing address and E-mail address is provided below.

ADDRESSES: The draft solicitation will be available for viewing and downloading from NETL's Homepage at http://www.netl.doe.gov/business. The final version of the solicitation along with all amendments will be posted on the NETL Homepage; applicants are therefore encouraged to periodically check the NETL Homepage to ascertain the status of these documents.

FOR FURTHER INFORMATION CONTACT: Mary S. Gabriele, MS I07, U.S. Department of Energy, National Energy Technology Laboratory, 3610 Collins Ferry Road, P.O. Box 880, Morgantown, WV 26507-0880, E-mail Address: mgabri@netl.doe.gov, Telephone Number: (304) 285-4253.

SUPPLEMENTARY INFORMATION: The U. S. Department of Energy is seeking Industrial Teams to develop a total of three solid-oxide fuel cell system prototypes per team with a net power output of between 3 kilawatts (kW) to 10kW. A single organization (prime) will lead each Industrial Team. The project will be structured in three phases over ten years with minimum goals and requirements established for each phase. A full functional prototype will be tested according to a minimum set of goals and requirements no later than the end of each phase.

This solicitation represents the beginning of a new fuel cell program. The new program will attack the fuel cell commercialization by reducing costs and producing system configurations that have wide applicability. SECA includes two major components—the Industrial Teams Component and the Core Technology Program. This solicitation is for the Industrial Team Component only.

The DOE anticipates award of multiple cost-sharing cooperative agreements; but the DOE reserves the right to award the agreement type and number deemed in its best interest. As required in Section 3002, Title XXX of the Energy Policy Act (EPACT), offerors are advised that mandatory cost-share will be required for each phase of the project: 20% for Phase I and 50% for Phases II and III. Funds are not currently available for this solicitation; the Government's obligation under any cooperative agreement awarded is contingent upon the availability of appropriated FY2001 funds.

Issued in Morgantown, WV on August 31, 2000.
Randolph L. Kesling,
Director, Acquisition and Assistance Division.

[FR Doc. 00-23387 Filed 9-11-00; 8:45 am]

BILLING CODE 6450-01-P